DEPARTMENT OF DEFENSE

Department of the Army

Availability for Non-Exclusive, Exclusive, or Partially Exclusive Licensing of U.S. Patent Concerning a Real-Time Imaging Spectropolarimeter Based on an Optical Modulator

AGENCY: Department of the Army, DoD.

ACTION: Notice.

SUMMARY: In accordance with 37 CFR 404.6 and 404.7, announcement is made of the availability for licensing of the invention set forth in U.S. Patent No. 7,023,546 entitled “A Real-Time Imaging Spectropolarimeter Based on an Optical Modulator,” issued on April 4, 2006. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, email: joan.gilsdorf@smdc.army.mil, (256) 955-3213 or Ms. Susan D. McRae, Office of Research and Technology Applications, e-mail: susan.mcrae@smdc.army.mil; (256) 955-1501.

SUPPLEMENTARY INFORMATION: The invention pertains to measuring the state of polarization and the spectral content of each picture element (pixel) of a target scene in real time. An imaging spectropolarimenter includes an objective optic for receiving an electromagnetic signal and a modulator for modulating the electromagnetic signal. The amplitude of each frequency component of the resulting modulated electromagnetic signal is a function of the particular polarization state of each frequency component of the electromagnetic signal. A linear polarizer passes a single polarization of the modulated electromagnetic signal to a tunable filter, which is tunable through a frequency spectrum. The tunable filter outputs a plurality of electromagnetic signal samples at predetermined frequency increments. A focal plane array receives each electromagnetic signal sample and outputs a spectrum signal, and a processor applies Fourier transformation to the spectrum signal to obtain at least one Stokes polarization vector component for each pixel within the scene.

Branda S. Bowen,
Army Federal Register Liaison Officer.

[FR Doc. 07-3395 Filed 7-11-07; 8:45 am]

BILLING CODE 3710-08-M